DEPARTMENT OF COMMERCE

Foreign-Trade Zones Board

[Docket 15-2011]

Foreign-Trade Zone 230-Greensboro, NC; Application for Subzone; VF Jeanswear (Apparel Distribution); Mocksville, NC

An application has been submitted to the Foreign-Trade Zones Board (the Board) by the Piedmont Triad Partnership, grantee of FTZ 230, requesting special-purpose subzone status for the warehousing and distribution facility of VF Jeanswear, located in Mocksville, North Carolina. The application was submitted pursuant to the provisions of the Foreign-Trade Zones Act, as amended (19 U.S.C. 81a-81u), and the regulations of the Board (15 CFR part 400). It was formally filed on March 1, 2011.

The VF Jeanswear facility (430 employees, 71.67acres/494,000 square feet of enclosed space) is located at 1401 U.S. Highway 601 South, Mocksville, North Carolina. The facility is used for warehousing and distribution of foreign-origin apparel (duty rates 16.6%-28.6%) for the U.S. market and export. The applicant is not seeking manufacturing or processing authority with this request.

FTZ procedures could exempt VF Jeanswear from customs duty payments on foreign apparel that is exported (about 1% of shipments). On domestic sales, duty payments would be deferred until the foreign merchandise is shipped from the facility and entered for U.S. consumption. FTZ designation would further allow VF Jeanswear to realize logistical benefits through the use of certain customs procedures. The request indicates that the savings from FTZ procedures would help improve the facility's international competitiveness.

In accordance with the Board's regulations, Diane Finver of the FTZ Staff is designated examiner to evaluate and analyze the facts and information presented in the application and case record and to report findings and recommendations to the Board.

Public comment is invited from interested parties. Submissions (original and 3 copies) shall be addressed to the Board's Executive Secretary at the address below. The closing period for their receipt is May 3, 2011. Rebuttal comments in response to material submitted during the foregoing period may be submitted during the subsequent 15-day period to May 18, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Diane Finver at Diane.Finver@trade.gov (202) 482-1367.

Dated: March 1, 2011.
Elizabeth Whiteman,
Acting Executive Secretary.

[FR Doc. 2011-4960 Filed 3-3-11; 8:45 am]

BILLING CODE 3510-DS-P